CONSUMER PRODUCT SAFETY COMMISSION

16 CFR Part 1632

[Docket No. CPSC-2017-0008]

Standard for the Flammability of Mattresses and Mattress Pads; Notice of Meeting and Request for Comments

AGENCY: Consumer Product Safety Commission.

ACTION: Announcement of public meeting and request for comments.

SUMMARY: The Consumer Product Safety Commission will be holding a meeting on the Standard for the Flammability of Mattresses and Mattress Pads at the CPSC's laboratory in Rockville, MD, on June 14, 2023. We invite interested parties to participate in or attend the meeting. A remote viewing option will be available for registrants. We also invite interested parties to submit written comments related to the possible changes to the Standard that are discussed in this notice.

DATES: The meeting will be held from 1 to 4 p.m. on June 14, 2023. Individuals interested in serving on panels or presenting information at the meeting should register by May 22, 2023; all other individuals who wish to attend the meeting in person or view it remotely should register by June 7, 2023. Written comments must be received by July 5, 2023.

ADDRESSES: The meeting will be held at the CPSC's National Product Testing and Evaluation Center, 5 Research Place, Rockville, MD 20850. Persons interested in serving on a panel or presenting information at the meeting in person should register by sending an email with their contact information and proposed presentation topic to LSEMeetings@cpsc.gov, no later than May 22, 2023. All other individuals who wish to attend the meeting in person or remotely should register by email to LSEMeetings@cpsc.gov by June 7, 2023.

You can submit written comments, identified by Docket No. CPSC-2017-0008, by any of the following methods:

Electronic Submissions: Submit electronic comments to the Federal eRulemaking Portal at: www.regulations.gov. Follow the instructions for submitting comments. Do not submit through this website: confidential business information, trade secret information, or other sensitive or protected information that you do not want to be available to the public. CPSC does not accept comments submitted by email, except as described below.

Mail/Hand Delivery/Courier/Confidential Written Submissions: CPSC encourages you to submit comments by using the Federal eRulemaking Portal. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided, to: www.regulations.gov. If you wish to submit confidential business information, trade secret information, or other sensitive or protected information that you do not want to be available to the public, you may submit such comments by mail, hand delivery, or courier, or you may email them to: cpsc-os@cpsc.gov.

Docket: For access to the docket to read background documents or comments received, go to: www.regulations.gov, and insert the docket number, CPSC-2017-0008, into the “Search” box, and follow the prompts.

FOR FURTHER INFORMATION CONTACT: Lisa L. Scott, Directorate for Laboratory Sciences, 5 Research Place, Rockville, MD 20850, telephone 301-987-2064, email LSEMeetings@cpsc.gov.

SUPPLEMENTARY INFORMATION:

I. Background

On June 23, 2005, the Commission published an advance notice of proposed rulemaking (ANPR) regarding the possible revocation or amendment of 16 CFR part 1632, Standard for the Flammability of Mattress and Mattress Pads (Cigarette Ignition). 70 FR 36357.

Since publication of the ANPR, CPSC staff has conducted testing of full-scale mattress prototypes, evaluated fire incident data, and evaluated both the existing and alternate ticking substitution tests for the substitution of components under 16 CFR part 1632. See 16 CFR 1632.6.

On February 1, 2017, the Commission published a Request for Information (RFI) Regarding Mattress Materials. 82 FR 8923. The Commission requested information on the materials, components, and methods of assembly currently used to comply with part 1632, Standard for the Flammability of Mattresses and Mattress Pads, and part 1633, Standard for the Flammability (Open Flame) of Mattress Sets. Six public comments were submitted. The commenters represented several segments of the mattress industry, but the small number of comments submitted gave CPSC a limited understanding of industry practices.

II. Topics for the Meeting

Below we identify the topics for the June 14, 2023, meeting.¹ As described in Section IV of this notice, we also are seeking written comments on these topics and related matters. We have identified the following specific topics we would like panelists to address at the meeting:

¹ The Commission voted 4-0 to approve publication of this notice.

1. Ticking substitution

• Experience with the test procedure in 16 CFR part 1632.6

• Assessment and availability of standard materials

• Factors affecting selection of materials

• Consideration of the effect of substituted ticking materials on open flame testing performance (16 CFR part 1633)

• Consideration of the effect of substituted ticking materials on consumer safety

2. Compliance with 16 CFR part 1632 and 16 CFR part 1633

• Methods and materials that affect flammability test performance for compliance with both standards

• Prototype data trends related to compliance with both standards for mattresses in development and/or introduced to commerce

CPSC will determine the presenters and order of the presentations once we confirm the number of panelists available for each topic area. We may combine, expand, or eliminate panel sessions, depending upon the level of interest. The final schedule will be announced on our website before the meeting.

III. Details Regarding the Public Meeting

A. When and where will the meeting be held?

The meeting will be held from 1 to 4 p.m. on June 14, 2023, at the CPSC's National Product Testing and Evaluation Center (NPTEC), 5 Research Place, Rockville, MD 20850.

B. How can I register for the meeting?

If you would like to be a panelist or present information for a specific session of the meeting, you should register by May 22, 2023. (See the ADDRESSES section of this document for instructions on how to register.) We also ask that you submit a brief (less than 200 word) abstract of your topic and area of expertise. Staff will select panelists based on a variety of considerations, including: Whether the information to be presented has been received in previous open comment periods; the individual's familiarity or expertise with the topic to be discussed; the practical utility in the information to be presented; and the topic's relevance to the identified theme and topic area. Although an effort will be made to accommodate all persons who wish to be panelists, we expect to limit each panel session to no more than approximately five panelists. Therefore, the final number of panelists may be limited. We recommend that individuals and organizations with common interests consolidate or coordinate their panelist requests. To assist in making final panelist selections, staff may ask potential panelists to submit planned presentations in addition to the initial abstract. We plan to notify panelists of their selection by May 26, 2023.

If you wish to attend and participate in the meeting, but you do not wish to be a panelist, you should register by June 7, 2023, and identify your affiliation. Every effort will be made to accommodate each person's request; however, we may need to limit registration to meet the occupant capacity of our meeting rooms. If you have registered, but are unable to attend the meeting in person, there will be a remote video conferencing link available to watch the meeting live, but you will not be able to interact with the panels and presenters. You may be able to submit written questions in real time for the presenters to answer. You will need to register by email as described in the ADDRESSES section of this document to receive a conferencing link for the meeting.

If you wish to submit written comments, you may do so before or after the meeting, as described in the ADDRESSES section of this notice. These comments should be received by July 5, 2023. Comments should focus on new information not submitted previously that is related to the topic areas listed above.

C. What will be the format of the meeting?

The meeting will open with a plenary session that includes a brief overview of the staff's activities since the publication of the 2005 ANPR. Following the plenary session, there will be a series of presentations covering topics listed above. We expect potential presenters to speak for approximately 10-20 minutes each about their topic area. At the conclusion of the presentations, there will be a question, answer, and discussion session among the presenters and the audience, limited to the topics discussed by the panelists.

D. How can I receive updates about the meeting?

If we decide to cancel or change the meeting, an email will be sent to each registered participant who provides a valid email address when registering as described in the ADDRESSES section of this document.

IV. Request for Comments

We request comments related to the possible revocation or amendment of 16 CFR part 1632 and other topics as noted below related to both flammability standards. Staff are interested in receiving written comments either before the public meeting or by July 5, 2023, on the following questions:

1. What types of procedures or alternative test protocols are available to be used for evaluating or substituting tickings? Are there alternative test protocols that may result in different ticking classifications? Please provide information about the benefits of these alternatives, their impact on safety, and whether and why the different ticking classification results are more or less accurate for the different methods.

2. If the test described in 16 CFR 1632.6(e) Test Procedure is performed, who is likely to perform the test (e.g., the mattress manufacturer, the ticking supplier, or another party), and why? Is the ticking classification verified by a lab report or some other documentation?

3. If a ticking is to be substituted on a qualified mattress prototype, how are candidate tickings for a substitution evaluated and selected? Other than ticking classification, what factors or features are important when selecting a ticking material? Please explain the benefits and/or concerns and impact on safety related to structure (e.g., knit, woven, nonwoven), fiber content, or other factors that may affect the decision. Is the effect on compliance with the Open Flame Standard a consideration in the selection process?

4. CPSC staff anticipate that recordkeeping requirements may be updated if the Commission opts to amend 16 CFR part 1632. These changes may be made to be consistent with the requirements in 16 CFR part 1633 (for mattresses) and/or separately updated for mattress pads. What recordkeeping changes should be considered for mattresses and/or mattress pads?

5. Are there emerging topics that should be considered in any proposed changes to either 16 CFR part 1632 or 16 CFR part 1633? Examples could include sustainability, accessibility of components, scope of products covered by either standard, and custom products.

Pamela J. Stone,
Acting Secretary, Consumer Product Safety Commission.

[FR Doc. 2023-09744 Filed 5-5-23; 8:45 am]

BILLING CODE 6355-01-P